FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 7, 2004.

A. Federal Reserve Bank of Richmond (A. Linwood Gill, III, Vice President) 701 East Byrd Street, Richmond, Virginia 23261-4528:

1. William Samuel Carnes, Paul Richard Carnes, Constance Swift Carnes, Blair Madison Carnes, William Hunter Carnes, John William Carnes, Wyndi Roberson Carnes, Chloe Alden Carnes, Mackenzie Elizabeth Carnes, Mark Wendell Carnes, Jr., Teri Carnes Pruitt, Thomas William Pruitt, Braxton Carnes Pruitt, Austin Elizabeth Pruitt, and Joan Seate Ellis, all of Midlothian, Virginia, as a group to control voting shares of Peoples Bank of Virginia, Richmond, Virginia.

B. Federal Reserve Bank of St. Louis (Randall C. Sumner, Vice President) 411 Locust Street, St. Louis, Missouri 63166-2034:

1. James Stephen Turner control group, which consists of James Stephen Turner, the James Stephen Turner 1994 trust, James Stephen Turner as trustee, and Judith Turner, all of Nashville, Tennessee, to retain control of FNB Financial Corporation, Scottsville, Kentucky, and thereby indirectly retain voting shares of The Farmers National Bank of Scottsville, Bowling Green, Kentucky.

Board of Governors of the Federal Reserve System, August 17, 2004.
Robert deV. Frierson,
Deputy Secretary of the Board.

[FR Doc. 04-19202 Filed 8-20-04; 8:45 am]

BILLING CODE 6210-01-S